ENVIRONMENTAL PROTECTION AGENCY

[CERCLA-04-2020-2505; FRL-10012-64-Region 4]

Pilot Mountain Superfund Site; Notice of Settlement

AGENCY: Environmental Protection Agency (EPA).

ACTION: Notice of proposed settlement.

SUMMARY: The United States Environmental Protection Agency (EPA) proposes to enter into a Settlement Agreement for Recovery of Past Response Costs with New River Tire Recycling, LLC, concerning the Pilot Mountain Superfund Site located in Pilot Mountain, North Carolina. The settlement addresses recovery of CERCLA costs for a cleanup action performed by the EPA at the Site.

DATES: The Agency will consider public comments on the settlement until September 24, 2020. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using the contact information provided in this notice. Comments may also be submitted by referencing the Site's name through one of the following methods: Internet: https://www.epa.gov/aboutepa/about-epa-region-4-southeast#r4-public-notices; Email: Painter.Paula@epa.gov.

FOR FURTHER INFORMATION CONTACT: Paula V. Painter at 404/562-8887.

Authority: 122(h) of the Comprehensive Environmental Response, Compensation and Liability Act (CERCLA).

Dated: July 21, 2020.
Maurice Horsey,
Chief, Enforcement Branch, Superfund & Emergency Management Division.

[FR Doc. 2020-18386 Filed 8-24-20; 8:45 am]

BILLING CODE 6560-50-P